DEPARTMENT OF ENERGY

Federal Energy Regulatory Commission

Combined Notice of Filings

Take notice that the Commission has received the following Natural Gas Pipeline Rate and Refund Report filings:

Filings Instituting Proceedings

Docket Numbers: RP17-77-000.

Applicants: OkTex Pipeline Company, L.L.C.

Description: Compliance filing 2015-2016—Gas Sales and Purchases Report.

Filed Date: 10/27/16.

Accession Number: 20161027-5073.

Comments Due: 5 p.m. ET 11/8/16.

Docket Numbers: RP17-78-000.

Applicants: Rockies Express Pipeline LLC.

Description: § 4(d) Rate Filing: Neg Rate 2016-10-27 BP for 10-30-16 to be effective 10/30/2016.

Filed Date: 10/27/16.

Accession Number: 20161027-5079.

Comments Due: 5 p.m. ET 11/8/16.

Docket Numbers: RP17-79-000.

Applicants: Elba Express Company, L.L.C.

Description: § 4(d) Rate Filing: 2016 Expansion Negotiated Rate Filing to be effective 12/1/2016.

Filed Date: 10/27/16.

Accession Number: 20161027-5080.

Comments Due: 5 p.m. ET 11/8/16.

Docket Numbers: RP17-80-000.

Applicants: Pine Needle LNG Company, LLC.

Description: § 4(d) Rate Filing: Negotiated Rate Authority to be effective 11/27/2016.

Filed Date: 10/27/16.

Accession Number: 20161027-5087.

Comments Due: 5 p.m. ET 11/8/16.

Docket Numbers: RP17-81-000.

Applicants: Wyoming Interstate Company, L.L.C.

Description: § 4(d) Rate Filing: L&U and Fuel Filing to be effective 12/1/2016.

Filed Date: 10/27/16.

Accession Number: 20161027-5103.

Comments Due: 5 p.m. ET 11/8/16.

Docket Numbers: RP17-82-000.

Applicants: Transcontinental Gas Pipe Line Company.

Description: § 4(d) Rate Filing: 2016 GSS LSS Tracker (EP & TCRA) to be effective 11/1/2016.

Filed Date: 10/27/16.

Accession Number: 20161027-5128.

Comments Due: 5 p.m. ET 11/8/16.

Docket Numbers: RP17-83-000.

Applicants: Transcontinental Gas Pipe Line Company.

Description: § 4(d) Rate Filing: Negotiated Rates—Cherokee AGL—Replacement Shippers—Nov 2016 to be effective 11/1/2016.

Filed Date: 10/27/16.

Accession Number: 20161027-5140.

Comments Due: 5 p.m. ET 11/8/16.

Docket Numbers: RP17-84-000.

Applicants: Natural Gas Pipeline Company of America.

Description: § 4(d) Rate Filing: Occidental Energy Negotiated Rate to be effective 11/1/2016.

Filed Date: 10/27/16.

Accession Number: 20161027-5162.

Comments Due: 5 p.m. ET 11/8/16.

Docket Numbers: RP17-85-000.

Applicants: Iroquois Gas Transmission System, L.P.

Description: § 4(d) Rate Filing: 10/27/16 Negotiated Rates—Trafigura Trading LLC (HUB) 7445-89 to be effective 11/1/2016.

Filed Date: 10/27/16.

Accession Number: 20161027-5171.

Comments Due: 5 p.m. ET 11/8/16.

Docket Numbers: RP17-86-000.

Applicants: Algonquin Gas Transmission, LLC.

Description: § 4(d) Rate Filing: Salem Lateral Non-Conforming Agreements Filing to be effective 11/1/2016.

Filed Date: 10/27/16.

Accession Number: 20161027-5174.

Comments Due: 5 p.m. ET 11/8/16.

Docket Numbers: RP17-87-000.

Applicants: Algonquin Gas Transmission, LLC.

Description: Compliance filing Salem Lateral—Negotiated Rates Filing to be effective 11/1/2016.

Filed Date: 10/27/16.

Accession Number: 20161027-5179.

Comments Due: 5 p.m. ET 11/8/16.

Docket Numbers: RP17-88-000.

Applicants: Trunkline Gas Company, LLC.

Description: Compliance filing Annual Interruptible Storage Revenue Credit filed 10-28-16.

Filed Date: 10/28/16.

Accession Number: 20161028-5006.

Comments Due: 5 p.m. ET 11/9/16.

Docket Numbers: RP17-89-000.

Applicants: Destin Pipeline Company, L.L.C.

Description: § 4(d) Rate Filing: Fuel Retention Adjustment Oct 2016 to be effective 12/1/2016.

Filed Date: 10/28/16.

Accession Number: 20161028-5018.

Comments Due: 5 p.m. ET 11/9/16.

Docket Numbers: RP17-90-000.

Applicants: Dominion Transmission, Inc.

Description: § 4(d) Rate Filing: DTI—October 28, 2016 Negotiated Rate Agreements to be effective 11/1/2016

Filed Date: 10/28/16.

Accession Number: 20161028-5032.

Comments Due: 5 p.m. ET 11/9/16.

Docket Numbers: RP17-91-000.

Applicants: Transcontinental Gas Pipe Line Company.

Description: Compliance filing Penalty Revenue Sharing Report—2016.

Filed Date: 10/28/16.

Accession Number: 20161028-5038.

Comments Due: 5 p.m. ET 11/9/16.

Docket Numbers: RP17-92-000.

Applicants: Iroquois Gas Transmission System, L.P.

Description: § 4(d) Rate Filing: 10/28/16 Negotiated Rates—Statoil Natural Gas LLC (RTS)—7120-03 to be effective 11/1/2016.

Filed Date: 10/28/16.

Accession Number: 20161028-5069.

Comments Due: 5 p.m. ET 11/9/16.

Docket Numbers: RP17-93-000.

Applicants: Texas Eastern Transmission, LP.

Description: § 4(d) Rate Filing: PCB TETLP DEC 2016 FILING to be effective 12/1/2016.

Filed Date: 10/28/16.

Accession Number: 20161028-5111.

Comments Due: 5 p.m. ET 11/9/16.

Docket Numbers: RP17-94-000.

Applicants: Rockies Express Pipeline LLC.

Description: § 4(d) Rate Filing: Neg Rate 2016-10-28 4 K's to be effective 11/1/2016.

Filed Date: 10/28/16.

Accession Number: 20161028-5128.

Comments Due: 5 p.m. ET 11/9/16.

Docket Numbers: RP17-95-000.

Applicants: Vector Pipeline L.P.

Description: § 4(d) Rate Filing: Tariff Revisions Filing (10-31-2016) to be effective 12/1/2016.

Filed Date: 10/31/16.

Accession Number: 20161031-5024.

Comments Due: 5 p.m. ET 11/14/16.

Docket Numbers: RP17-96-000.

Applicants: Texas Eastern Transmission, LP.

Description: § 4(d) Rate Filing: Negotiated Rates ConocoPhillips contract 911388 to be effective 11/1/2016.

Filed Date: 10/31/16.

Accession Number: 20161031-5030.

Comments Due: 5 p.m. ET 11/14/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2016.
Nathaniel J. Davis, Sr.,
Deputy Secretary.

[FR Doc. 2016-26707 Filed 11-3-16; 8:45 am]

BILLING CODE 6717-01-P